INTERNATIONAL TRADE COMMISSION

[Investigation No. 731-TA-429 (Review)]

Mechanical Transfer Presses From Japan

Determination

On the basis of the record ¹ developed in the subject five-year review, the United States International Trade Commission determines,² pursuant to section 751© of the Tariff Act of 1930 (the Act),³ that revocation of the antidumping duty order on mechanical transfer presses (MTPs) ⁴ from Japan would be likely to lead to continuation or recurrence of material injury to an industry in the United States within a reasonably foreseeable time.

¹ The record is defined in sec. 207.2(f) of the Commission's Rules of Practice and Procedure (19 CFR § 207.2(f)).

² Commissioner Thelma J. Askey dissenting.

³ 19 U.S.C. 1675(c).

⁴ For purposes of this review, the term “mechanical transfer press” (MTP) refers to automatic metal-forming machine tools with multiple die stations in which the workpiece is moved from station to station by a transfer mechanism designed as an integral part of the press and synchronized with the press action, whether imported as machines or parts suitable for use solely or principally with these machines. These presses may be assembled or unassembled.

Commerce published in the Federal Register several Notices of Scope Rulings with respect to MTPs from Japan and determined that: (1) spare and replacement parts are outside the scope of the order (57 FR 19602, May 7, 1992); (2) a destack sheet feeder designed to be used with a mechanical transfer press is an accessory and, therefore, is not within the scope of the order (57 FR 32973, July 24, 1992); (3) the FMX cold-forging press is within the scope of the order (59 FR 8910, February 24, 1994); and (5) certain mechanical transfer press parts exported from Japan are outside the scope of the order (62 FR 9176, February 28, 1997).

Commerce's scope identifies the Harmonized Tariff Schedule of the United States (HTS) statistical reporting numbers for MTPs as 8462.99.0035, mechanical transfer presses, and 8466.94.5040, parts of mechanical transfer presses. However, these numbers were replaced by statistical reporting numbers 8462.99.8035, 8466.94.6040, and 8466.94.8040 on January 1, 1994. Subsequently, on July 1, 1997, statistical reporting numbers 8466.94.6040 and 8466.94.8040 were replaced by statistical reporting numbers 8466.94.6540 and 8466.94.8540. For a further explanation of these changes, see the U.S. Tariff Treatment section presented later in this report. The HTS numbers are provided for convenience and customs purposes. The written description remains dispositive.

Background

The Commission instituted this review on June 1, 1999,⁵ and determined on September 3, 1999, that it would conduct a full review.⁶ Notice of the scheduling of the Commission's review and of a public hearing to be held in connection therewith was given by posting copies of the notice in the Office of the Secretary, U.S. International Trade Commission, Washington, DC, and by publishing the notice in the Federal Register on November 15, 1999.⁷ The hearing was held in Washington, DC, on April 4, 2000, and all persons who requested the opportunity were permitted to appear in person or by counsel.

⁵ 64 FR 29347, June 1, 1999.

⁶ 64 FR 50107, September 15, 1999.

⁷ 64 FR 61938, November 15, 1999.

The Commission transmitted its determination in this review to the Secretary of Commerce on May 26, 2000. The views of the Commission are contained in USITC Publication 3304 (May 2000), entitled Mechanical Transfer Presses from Japan: Investigation No. 731-TA-429 (Review).

Issued: June 1, 2000.
By order of the Commission.
Donna R. Koehnke,
Secretary.

[FR Doc. 00-14319 Filed 6-6-00; 8:45 am]

BILLING CODE 7020-02-P